DEPARTMENT OF HOUSING AND URBAN DEVELOPMENT

24 CFR Part 92

[Docket No. FR-4111-C-04]

RIN 2501-AC30

HOME Investment Partnerships Program; Correction

AGENCY: Office of the Secretary, HUD.

ACTION: Final rule; correction.

SUMMARY: On October 1, 2002, HUD published a final rule making several streamlining and clarifying amendments to the regulations for the HOME Investment Partnerships Program. The final rule inadvertently removed the 36-month timeframe for purchasing a home under lease-purchase programs assisted with HOME funds. This document makes the necessary correction to the final rule.

DATES: Effective Date: October 1, 2002.

FOR FURTHER INFORMATION CONTACT: Virginia Sardone, Director, Program Policy Division, Office of Affordable Housing Programs, Room 7164, 451 Seventh Street, SW., Washington, DC 20410. Telephone: (202) 708-2470. (This is not a toll-free number.) A telecommunications device for hearing- and speech-impaired persons (TTY) is available at 1-800-877-8339 (Federal Information Relay Service).

SUPPLEMENTARY INFORMATION: On October 1, 2002 (67 FR 61752), HUD published a final rule making several streamlining and clarifying amendments to the regulations for the HOME Investment Partnerships Program. Among other changes, the final rule amended § 92.254(a)(7), which establishes the income eligibility requirements for lease-purchase agreements, to reflect a statutory change made by section 599B of the Quality Housing and Work Responsibility Act of 1998 (Public Law 105-276, approved October 21, 1998) (QHWRA). Section 599B of QHWRA eliminated the requirement that HOME-assisted homebuyers qualify as income eligible at the time of occupancy or when the HOME funds are invested, whichever is later. In the case of a lease-purchase agreement, section 599B requires the homebuyer to qualify as low-income at the time the agreement is signed.

In amending § 92.254(a)(7) to implement section 599B of QHWRA, the October 1, 2002 final rule inadvertently removed the 36-month timeframe for purchasing a home under lease-purchase programs assisted with HOME funds. This provision requires that the home must be purchased by the homebuyer within 36 months of signing the lease-purchase agreement. This document makes the necessary correction to the October 1, 2002 final rule.

Accordingly, rule FR Doc. 02-24820 published on October 1, 2002 (67 FR 61752) is corrected as follows:

1. On page 61756, in the third column, § 92.254(a)(7) is corrected to read as follows:

§ 92.254 Qualification as affordable housing: Homeownership.

(a) * * *

(7) Lease-purchase. HOME funds may be used to assist homebuyers through lease-purchase programs for existing housing and for housing to be constructed. The housing must be purchased by a homebuyer within 36 months of signing the lease'purchase agreement. The homebuyer must qualify as a low-income family at the time the lease-purchase agreement is signed. If HOME funds are used to acquire housing that will be resold to a homebuyer through a lease-purchase program, the HOME affordability requirements for rental housing in § 92.252 shall apply if the housing is not transferred to a homebuyer within forty-two months after project completion.

* * * * *

Dated: February 20, 2003.
Roy A. Bernardi,
Assistant Secretary for Community Planning and Development.

[FR Doc. 03-4941 Filed 3-3-03; 8:45 am]

BILLING CODE 4210-29-P